DEPARTMENT OF ENERGY

Federal Energy Regulatory Commission

[Project No. 12551-001]

Salvatore and Michelle Shifrin; Notice of Application Ready for Environmental Analysis, and Soliciting Comments, Terms and Conditions, Recommendations, and Prescriptions

September 3, 2008.

Take notice that the following hydroelectric application has been filed with the Commission and is available for public inspection.

a. Type of Application: Exemption from Licensing.

b. Project No.: 12551-001.

c. Date filed: January 25, 2008.

d. Applicant: Salvatore and Michelle Shifrin.

e. Name of Project: Mansfield Hollow Hydro Power Project.

f. Location: On the Natchaug River in Tolland County, Connecticut. The project would occupy United States land managed by the U.S. Army Corps of Engineers.

g. Filed Pursuant to: Public Utility Regulatory Policies Act of 1978, 16 U.S.C. 2705 and 2708.

h. Applicant Contact: Salvatore Shifrin, 78 Bricktop Road, Windham, CT 06280, (860) 423-7709.

i. FERC Contact: Tom Dean, (202) 502-6041.

j. Deadline for filing comments, recommendations, terms and conditions, and prescriptions: 60 days from the issuance date of this notice; reply comments are due 105 days from the issuance date of this notice.

All documents (original and eight copies) should be filed with: Secretary, Federal Energy Regulatory Commission, 888 First Street, NE., Washington, DC 20426.

The Commission's Rules of Practice require all intervenors filing documents with the Commission to serve a copy of that document on each person whose name appears on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “eFiling” link.

k. This application has been accepted and is now ready for environmental analysis at this time.

l. Description of Project: The Mansfield Hollow Hydro Power Project would consist of: (1) The existing 80-foot-long, 10-foot-high Kirby Mill Dam; (2) the existing 1.6-acre reservoir; (3) the existing headgate structure; (4) the existing 12-foot-wide, 8-foot-high, 330-foot-long head race channel; (5) a new powerhouse containing five generating units with a total installed capacity of 500 kilowatts; (6) the existing 5-foot-wide, 7-foot-high, 100-foot-long conduit and 75-foot-long open tailrace; and (7) appurtenant facilities. The project would have an average annual generation of about 2,500 megawatt-hours.

In addition to a new powerhouse, project restoration would consist of: (1) A new 12-foot-wide, 8-foot-high, 330-foot-long head race channel; (2) a new 20-foot-wide, 8-foot-high, 20-foot-long box culvert connected to a new 25-foot-wide, 4-foot-high, 153-foot-long open channel tail race; and (3) a new 480-V/23-kV, 275-foot-long underground transmission cable.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h. above.

All filings must: (1) Bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. Procedural schedule: The Commission staff proposes to issue a single Environmental Assessment (EA) rather than issuing a draft and final EA. Staff intends to allow 30 days for entities to comment on the EA, and will take into consideration all comments received on the EA before final action is taken on the exemption application. The application will be processed according to the schedule, but revisions to the schedule may be made as appropriate:

Action | Date
Notice of the availability of the EA | February 2009

o. Final amendments to the application must be filed with the Commission no later than 30 days from the issuance date of the notice of ready for environmental analysis.

Kimberly D. Bose,
Secretary.

[FR Doc. E8-20862 Filed 9-8-08; 8:45 am]

BILLING CODE 6717-01-P